NUCLEAR REGULATORY COMMISSION

[Docket No. 70-3098]

Notice of License Application for Possession and Use of Byproduct, Source, and Special Nuclear Materials for the Mixed Oxide Fuel Fabrication Facility, Aiken, SC, and Opportunity To Request a Hearing

AGENCY: Nuclear Regulatory Commission.

ACTION: Notice of license application, and opportunity to request a hearing.

DATES: A request for a hearing must be filed by May 14, 2007.

FOR FURTHER INFORMATION CONTACT: David Tiktinsky, Senior Project Manager, MOX Branch, Division of Fuel Cycle Safety and Safeguards, Office of Nuclear Material Safety and Safeguards, U.S. Nuclear Regulatory Commission, Washington, DC 20555. Telephone: (301) 415-6195; fax number: (301) 415-5369; e-mail: dht@nrc.gov.

SUPPLEMENTARY INFORMATION:

I. Introduction

The Nuclear Regulatory Commission (NRC) has received, by letter dated September 27, 2006, November 16, 2006 (document withheld based on 10 CFR 2.390), and January 4, 2007 (a public redacted version), a license application and supporting documents from Shaw AREVA MOX Services (MOX Services), requesting a license for possession and use of byproduct, source, and special nuclear materials for the Mixed Oxide Fuel Fabrication Facility (MFFF) to be located on the Savannah River Site in Aiken, SC.

On March 30, 2005, the NRC issued a Construction Authorization (CA) to MOX Services (formerly known as Duke, Cogema, Stone and Webster) for a MFFF to be located at the Savannah River Site in Aiken, South Carolina (ML050660392).The NRC staff's technical basis for issuing the CA was set forth in NUREG-1821, “Final Safety Evaluation Report on the Construction Authorization Request for the Mixed Oxide Fuel Fabrication Facility at the Savannah River Site, South Carolina” (ML050660399). The results of the staff's environmental review related to the issuance of the CA are contained in NUREG-1767, “Environmental Impact Statement on the Construction and Operation of a Mixed Oxide Fuel Fabrication Facility at the Savannah River Site, South Carolina—Final Report” (ML050240233, ML050240250).

A License Application (LA) was submitted to the NRC on September 27, 2006, requesting the approval for the possession and use of byproduct, source, and special nuclear materials for the MFFF. In the process of performing the Acceptance/Acknowledgment review of the LA, the staff identified some parts of the submittal that required modifications in order for the NRC to complete the initial review. The preliminary review of the LA indicated that much of the information required by Part 70 (in particular, 10 CFR 70.22 and 10 CFR part 70, subpart H) to be in an operating license application was contained in the Integrated Safety Analyses (ISA) Summary. The staff also believed that some of the information that was identified to be withheld as proprietary should be publically available.

On November 7, 2006, the NRC sent a letter to Mr. David Stinson, President of MOX Services indicating the modifications that were needed in order for the NRC to complete its initial Acceptance/Acknowledgment review. A revised LA was submitted to the NRC on November 16, 2006 (document was withheld under 10 CFR 2.390).

The U.S. NRC staff performed an acknowledgment/ acceptance review of the revised MFFF license submittals to determine if sufficient information was provided for the staff to begin a detailed technical review.

The submittals generally addressed the requirements of an operating license for a facility specified in 10 CFR part 70, and the items specified in NUREG-1718, “Standard Review Plan for the Review of an Application for a Mixed Oxide Fuel Fabrication Facility.” The staff accepted the application for technical review and docketing. The Acceptance/Acknowledgment review was documented in a letter to MOX Services dated December 20, 2006 (ML063530612). A redacted public version of the LA was submitted to the NRC on January 4, 2007 (ML070160304 and ML070160311).

The NRC will review the license application for compliance with applicable sections of regulations in Title 10 of the Code of Federal Regulations (10 CFR)—Energy, Chapter I—Nuclear Regulatory Commission.

If the NRC approves the application, the approval will be documented in an NRC License. However, before approving the request for an operating license, the NRC will need to make the findings required by the Atomic Energy Act of 1954, as amended, and NRC's regulations. These findings will be documented in a Safety Evaluation Report.

II. Opportunity To Request a Hearing

The NRC hereby provides notice that this is a proceeding on an application for a license. In accordance with the general requirements in subpart C of 10 CFR part 2, as amended on January 14, 2004 (69 FR 2182), any person whose interest may be affected by this proceeding and who desires to participate as a party must file a written request for a hearing and a specification of the contentions which the person seeks to have litigated in the hearing.

In accordance with 10 CFR 2.302(a), a request for a hearing must be filed with the Commission either by:

1. First class mail addressed to: Office of the Secretary, U.S. Nuclear Regulatory Commission, Washington, DC 20555-0001, Attention: Rulemakings and Adjudications Staff;

2. Courier, express mail, and expedited delivery services: Office of the Secretary, Sixteenth Floor, One White Flint North, 11555 Rockville Pike, Rockville, MD 20852, Attention: Rulemakings and Adjudications Staff, between 7:45 a.m. and 4:15 p.m., Federal workdays;

3. E-mail addressed to the Office of the Secretary, U.S. Nuclear Regulatory Commission, hearingdocket@nrc.gov; or

4. By facsimile transmission addressed to the Office of the Secretary, U.S. Nuclear Regulatory Commission, Washington, DC, Attention: Rulemakings and Adjudications Staff, at (301) 415-1101; verification number is (301) 415-1966.

In accordance with 10 CFR 2.302 (b), all documents offered for filing must be accompanied by proof of service on all parties to the proceeding or their attorneys of record as required by law or by rule or order of the Commission, including:

1. The applicant, Shaw AREVA MOX Services, P.O. Box 7097, Aiken, SC 29804, Attention: Dealis Gwyn; and

2. The NRC staff, by delivery to the Office of the General Counsel, One White Flint North, 11555 Rockville Pike, Rockville, MD 20852, or by mail addressed to the Office of the General Counsel, U.S. Nuclear Regulatory Commission, Washington, DC 20555-0001. Hearing requests should also be transmitted to the Office of the General Counsel, either by means of facsimile transmission to (301) 415-3725, or via e-mail to ogcmailcenter@nrc.gov.

The formal requirements for documents contained in 10 CFR 2.304(b), (c), (d), and (e), must be met. In accordance with 10 CFR 2.304(f), a document filed by electronic mail or facsimile transmission need not comply with the formal requirements of 10 CFR 2.304(b), (c), and (d), as long as an original and two (2) copies otherwise complying with all of the requirements of 10 CFR 2.304(b), (c), and (d) are mailed within two (2) days thereafter to the Secretary, U.S. Nuclear Regulatory Commission, Washington, DC 20555-0001, Attention: Rulemakings and Adjudications Staff.

In accordance with 10 CFR 2.309 (b), a request for a hearing must be filed by May 14, 2007.

In addition to meeting other applicable requirements of 10 CFR 2.309, the general requirements involving a request for a hearing filed by a person other than an applicant must state:

1. The name, address, and telephone number of the requester;

2. The nature of the requester's right under the Act to be made a party to the proceeding;

3. The nature and extent of the requester's property, financial or other interest in the proceeding;

4. The possible effect of any decision or order that may be issued in the proceeding on the requester's interest; and

5. The circumstances establishing that the request for a hearing is timely in accordance with 10 CFR 2.309 (b).

In accordance with 10 CFR 2.309 (f)(1), a request for hearing or petitions for leave to intervene must set forth with particularity the contentions sought to be raised. For each contention, the request or petition must:

1. Provide a specific statement of the issue of law or fact to be raised or controverted;

2. Provide a brief explanation of the basis for the contention;

3. Demonstrate that the issue raised in the contention is within the scope of the proceeding;

4. Demonstrate that the issue raised in the contention is material to the findings that the NRC must make to support the action that is involved in the proceeding;

5. Provide a concise statement of the alleged facts or expert opinions which support the requester's/petitioner's position on the issue and on which the requester/petitioner intends to rely to support its position on the issue; and

6. Provide sufficient information to show that a genuine dispute exists with the applicant on a material issue of law or fact. This information must include references to specific portions of the application that the requester/petitioner disputes and the supporting reasons for each dispute, or, if the requester/petitioner believes the application fails to contain information on a relevant matter as required by law, the identification of each failure and the supporting reasons for the requester's/petitioner's belief.

In addition, in accordance with 10 CFR 2.309 (f)(2), contentions must be based on documents or other information available at the time the petition is to be filed, such as the application, supporting safety analysis report, or other supporting documents filed by an applicant or licensee, or otherwise available to the petitioner.

Each contention shall be given a separate numeric or alpha designation within one of the following groups:

1. Technical—primarily concerns issues relating to matters discussed or referenced in the Safety Evaluation Report for the proposed action.

2. Environmental—primarily concerns issues relating to matters discussed or referenced in the Environmental Report for the proposed action.

3. Emergency Planning—primarily concerns issues relating to matters discussed or referenced in the Emergency Plan as it relates to the proposed action.

4. Physical Security—primarily concerns issues relating to matters discussed or referenced in the Physical Security Plan as it relates to the proposed action.

5. Miscellaneous—does not fall into one of the categories outlined above.

If the requester/petitioner believes a contention raises issues that cannot be classified as primarily falling into one of these categories, the requester/petitioner must set forth the contention and supporting bases, in full, separately for each category into which the requester/petitioner asserts the contention belongs with a separate designation for that category.

Requesters/petitioners should, when possible, consult with each other in preparing contentions and combine similar subject matter concerns into a joint contention, for which one of the co-sponsoring requesters/petitioners is designated the lead representative. Further, in accordance with 10 CFR 2.309 (f)(3), any requester/petitioner that wishes to adopt a contention proposed by another requester/petitioner must do so in writing within ten days of the date the contention is filed, and designate a representative who shall have the authority to act for the requester/petitioner.

In accordance with 10 CFR 2.309 (g), a request for hearing and/or petition for leave to intervene may also address the selection of the hearing procedures, taking into account the provisions of 10 CFR 2.310.

III. Further Information

Documents related to this action, including the application and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are:

Document | ADAMS Accession No. | Date
License Application for the MFFF | ML062750194 | 09/27/2006
Request for exemption from decommissioning requirements | ML062720071 | 09/27/2006
Request for exemption from radiation labeling requirements | ML062720076 | 09/27/2006
Request for exemption from indemnity agreement and financial protection requirement | ML062720082 | 09/27/2006
NRC letter with comments on LA content review | ML063100216 | 11/07/2006
Emergency plan assessment | ML063250124 | 11/16/2007
| ML063250129
NRC acceptance/acknowledgment review letter | ML063530612 | 12/20/2006
Transmittal letter for public version of LA | ML070160304 | 01/04/2007
License application public version | ML070160311 | 01/04/2007

If you do not have access to ADAMS or if there are problems in accessing the documents located in ADAMS, contact the NRC Public Document Room (PDR) Reference staff at 1-800-397-4209, 301-415-4737, or by e-mail to pdr@nrc.gov.

These documents may also be viewed electronically on the public computers located at the NRC's PDR, O-1-F-21, One White Flint North, 11555 Rockville Pike, Rockville, MD 20852. The PDR reproduction contractor will copy documents for a fee.

Dated at Rockville, Maryland, this 7th day of March, 2007.
For the Nuclear Regulatory Commission.
Joseph Giitter,
Director, Special Project, and Technical Support Directorate, Division of Fuel Cycle Safety and Safeguards, Office of Nuclear Material Safety and Safeguards.

[FR Doc. E7-4751 Filed 3-14-07; 8:45 am]

BILLING CODE 7590-01-P